DEPARTMENT OF VETERANS AFFAIRS

[OMB Control No. 2900-0730]

Proposed Information Collection (Deployment Risk and Resilience Inventory) Activity: Comment Request

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each extension collection, and allow 60 days for public comment in response to the notice. This notice solicits comments on the information needed for Veterans, Veteran Representatives and health care providers to request reimbursement from the federal government for emergency services at a private institution.

DATES: Written comments and recommendations on the proposed collection of information should be received on or before September 22, 2015.

ADDRESSES: Submit written comments on the collection of information through Federal Docket Management System (FDMS) at www.Regulations.gov; or Audrey Revere, Office of Regulatory and Administrative Affairs, Veterans Health Administration (10B4), Department of Veterans Affairs, 810 Vermont Avenue NW, Washington, DC 20420 or email: Audrey.revere@va.gov. Please refer to “OMB Control No. 2900-0730” in any correspondence. During the comment period, comments may be viewed online through the FDMS.

FOR FURTHER INFORMATION CONTACT: Audrey Revere at (202) 461-5694.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: Development of the Deployment Risk and Resilience Inventory (DRRI)

OMB Control Number: 2900-0730

Type of Review: Extension.

Abstract: The need to validate measures for use with the newest deployment cohort, including Veterans of the wars in Iraq and Afghanistan, has been identified as a critical need by both VA and DoD. The current request for a revision to OMB 2900-0730 is responsive to this identified need by proposing additional data collection with a sample of Operation Enduring Freedom/Operation Iraqi Freedom (OEF/OIF) Veterans for the purpose of validating updated scales for assessing deployment-related risk and resilience factors that have documented implications for PTSD and other mental health problems. The originally approved OMB project (VA Form 10-21087) involved collecting data from Operation Enduring Freedom/Operation Iraqi Freedom (OEF/OIF) veterans to further refine and validate updated Deployment Risk and Resilience Inventory (DRRI) scales with respect to mental health outcomes. The purpose of the present request for a revision to this OMB-approved project is to conduct additional data collections with OEF/OIF Veterans who participated in the original survey for the purpose of further exploring the construct validity of these scales. Specifically, the goal of this follow-up study is to examine deployment-related factors assessed in the DRRI as they relate to subsequently assessed occupational and family outcomes, as well as VA service use. The long-term goal of this project is to provide a suite of scales that will be optimally useful to researchers and clinicians interested in studying factors that increase or reduce risk for PTSD and other health problems among Veteran and military samples.

Legal authority for this data collection is found under 38 U.S.C., part I, chapter 5, section 527 that authorizes the collection of data that will allow measurement and evaluation of the Department of Veterans Affairs Programs, the goal of which is improved health care for veterans.

Affected Public: Individuals or Households,

Estimated Annual Burden: 1,383 burden hours.

Estimated Average Burden per Respondent: 50 minutes.

Frequency of Response: Annually.

Estimated Number of Respondents: 2000.

By direction of the Secretary.
Kathleen M. Manwell,
Program Analyst, VA Privacy Service, Office of Privacy and Records Management, Department of Veterans Affairs.

[FR Doc. 2015-18166 Filed 7-23-15; 8:45 am]

BILLING CODE 8320-01-P